DEPARTMENT OF EDUCATION

[CFDA No.: 84.330B]

RIN 1855-ZA01

Office of Innovation and Improvement—Advanced Placement (AP) Test Fee Program; Notice Inviting Applications for New Awards for Fiscal Year (FY) 2003

Purpose of Program: The AP Test Fee program provides grants to States to enable them to pay advanced placement test fees on behalf of eligible low-income students who (1) are enrolled in an advanced placement course; and (2) plan to take an advanced placement exam. The program is designed to increase the number of low-income students who take advanced placement tests and receive scores for which college academic credit is awarded. Through participation in this program, low-income students will achieve to higher standards in English, mathematics, science, and other core subjects. The program also seeks to increase the number of low-income students who achieve a baccalaureate or advanced degree.

The AP Test Fee program provides resources that State Educational agencies (SEAs) and other eligible applicants can use in pursuit of the objectives of the No Child Left Behind Act of 2001 which aims for all elementary and secondary students to achieve to high standards. In particular, this program provides an opportunity for eligible entities to support advanced placement programs in schools identified for improvement, corrective action, or restructuring under Title I, Part A of the Elementary and Secondary Education Act of 1965, as amended.

Eligible Applicants: SEAs in any State, including the District of Columbia, the Commonwealth of Puerto Rico, the United States Virgin Islands, Guam, American Samoa, the Commonwealth of the Northern Mariana Islands, and the freely associated states of the Republic of the Marshall Islands, the Federated States of Micronesia, and the Republic of Palau.

Note: For purposes of this program, the Bureau of Indian Affairs is treated as an SEA.

Applications Available: 5-16-03.

Notification of Intent to Apply for Funding: The Department will be able to develop a more efficient process for reviewing grant applications if it has a better understanding of the number of entities that intend to apply for funding under this competition. Therefore, the Secretary strongly encourages each potential applicant for the AP Test Fee program to notify the Department by e-mail that it intends to submit an application for funding. The notification of intent to apply for funding should be sent no later than June 16, 2003 to the following Internet address: madeline.baggett@ed.gov.

Applicants who fail to provide this e-mail notification may still apply for funding.

Deadline for Transmittal of Applications: 6-30-03.

Deadline for Intergovernmental Review: 8-30-03.

Estimated Available Funds: Approximately $3 million.

Note: The Department expects to award a total of approximately $3 million in grants to States under the AP Test Fee program but, in accordance with statutory requirements, will make more funds available from the Advanced Placement Incentive program (CFDA No. 84.330C) if necessary.

Estimated Range of Awards: $50,000 to $500,000 per year.

Estimated Average Size of Awards: $275,000 per year.

Estimated Number of Awards: 4-50.

Note: These estimates are projections for the guidance of potential applicants. The Department is not bound by any estimates in this notice.

Project Period: Up to 36 months.

Applicable Regulations and Statute: (a) Regulations. Education Department General Administrative Regulations (EDGAR) in 34 CFR parts 75, 77, 79, 80, 81, 82, 85, 86, 97, 98, and 99. (b) Statute. Title I, Part G of the Elementary and Secondary Education Act of 1965 (ESEA), as amended by the No Child Left Behind Act of 2001 (NCLB), 20 U.S.C. 6531-6537.

Test Fee Funding Rule

In accordance with statutory requirements, the Department gives priority to funding proposals to use grant funds to pay advanced placement test fees on behalf of eligible low-income individuals. The Department intends to fund, at some level, all applications that meet the minimum Requirements for Approval of Applications as described in the application package.

Allowable Activities

States receiving grants under this program may use the grant funds to pay part or all of the cost of advanced placement test fees for low-income individuals who (1) are enrolled in an advanced placement class; and (2) plan to take an advanced placement test.

Award Basis

In determining grant award amounts, the Department will consider, among other things, the number of children in the State eligible to be counted under section 1124(c) of Title I of the ESEA in relation to the number of such children counted in all the States that apply for funding. Complete budget data must be submitted for each year of funding requested.

Definitions

The following definitions and other provisions are taken from the Advanced Placement Programs authorizing statute, in Title I, Part G of the ESEA. They are repeated in this application notice for the convenience of the applicant.

As used in this section:

(a) The term advanced placement test means an advanced placement test administered by the College Board or approved by the Secretary of Education.

Note: In addition to advanced placement tests administered by the College Board, the Department has approved advanced placement tests administered by the International Baccalaureate Organization. As part of the grant application process, applicants may request approval of tests from other educational entities that provide comparable programs of rigorous academic courses and testing through which students may earn college credit.

(b) The term low-income individual means an individual who is determined by an SEA or local educational agency to be a child from a low-income family on the basis of data used by the Secretary to determine allocations under section 1124 of Title I of the ESEA, data on children in families receiving assistance under part A of title IV of the Social Security Act, or data on children eligible to receive medical assistance under the Medicaid program under title XIX of the Social Security Act, or through an alternate method that combines or extrapolates from those data.

Information Dissemination

An SEA awarded a grant under the AP Test Fee program must disseminate information regarding the availability of advanced placement test fee payments under this program to eligible individuals through secondary school teachers and guidance counselors.

Supplement, Not Supplant, Rule

Funds provided under this program may be used only to supplement, and not supplant, other non-Federal funds that are available to assist low-income individuals in paying advanced placement test fees.

Waiver of Proposed Rulemaking

In accordance with the Administrative Procedure Act (5 U.S.C. 553), it is the practice of the Secretary to offer interested parties the opportunity to comment on proposed rules that are not taken directly from the statute. Ordinarily, this practice would have applied to the rules in this notice. Section 437(d)(2) of the General Education Provisions Act (GEPA), however, exempts from this rulemaking requirement those rules where the Secretary determines it would cause extreme hardship to the intended beneficiaries of the program affected by the regulations. The Secretary, in accordance with section 437(d)(2) of GEPA, has decided to forego public comment with respect to the rules in this grant competition in order to ensure timely and high-quality awards. These rules will apply only to the FY 2003 grant competition.

For Applications Contact: Education Publications Center (ED Pubs), P.O. Box 1398, Jessup, MD 20794-1398. Telephone (toll free): 1-877-433-7827. FAX: (301) 470-1244. If you use a telecommunications device for the deaf (TDD) you may call (toll free): 1-877-576-7734.

You may also contact ED Pubs at its Web site: http://www.ed.gov/pbs/edpubs.html.

Or you may contact ED Pubs at its e-mail address: edpubs@inet.ed.gov.

If you request an application from ED Pubs, be sure to identify this competition as follows: CFDA number 84.330B.

FOR FURTHER INFORMATION CONTACT: Madeline E. Baggett, U.S. Department of Education, 400 Maryland Avenue, SW., Washington, DC 20202-6140. Telephone: (202) 260-2502 or via Internet: madeline.baggett@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6531-6537.

Dated: May 12, 2003.
Nina Rees,
Deputy Under Secretary for Innovation and Improvement.

[FR Doc. 03-12285 Filed 5-15-03; 8:45 am]

BILLING CODE 4000-01-P